DEPARTMENT OF TRANSPORTATION

Federal Railroad Administration

[Docket No. FRA-2014-0011-N-7]

Proposed Agency Information Collection Activities; Comment Request

AGENCY: Federal Railroad Administration (FRA), Department of Transportation (DOT).

ACTION: Notice.

SUMMARY: In accordance with the Paperwork Reduction Act of 1995 and its implementing regulations, the Federal Railroad Administration (FRA) hereby announces that it is seeking renewal of the following currently approved information collection activities. Before submitting the information collection requests (ICRs) below for clearance by the Office of Management and Budget (OMB), FRA is soliciting public comment on specific aspects of the activities identified below.

DATES: Comments must be received no later than June 20, 2014.

ADDRESSES: Submit written comments on any or all of the following proposed activities by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number ____.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave, SE., Mail Stop 17, Washington, DC 20590 (telephone: (202) 493-6292) or Ms. Kimberly Toone, Office of Information Technology, RAD-20, Federal Railroad Administration, 1200 New Jersey Ave, SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Railroad Operating Rules.

OMB Control Number: 2130-0035.

Abstract: The collection of information is due to the railroad operating rules set forth in 49 CFR part 217 which require Class I and Class II railroads to file with FRA copies of their operating rules, timetables, and timetable special instructions, and subsequent amendments thereto. Class III railroads are required to retain copies of these documents at their systems headquarters. Also, 49 CFR 220.21(b) prescribes the collection of information which requires railroads to retain one copy of their current operating rules with respect to radio communications and one copy of each subsequent amendment thereto. These documents must be made available to FRA upon request. Through these rules, FRA learns the condition of operating rules and practices with respect to trains and instructions provided by the railroad to their employees in operating practices.

Form Number(s): N/A.

Affected Public: Businesses.

Respondent Universe: 720 railroads.

Frequency of Submission: On occasion.

Reporting Burden:

CFR section | Respondent universe | Total annual responses | Average time per response | Total annual burden hours
217.7—Copy—FRA—Operating rules, timetables, Class I & II RRs | 2 new railroads | 2 submissions | 1 hour | 2
—Amendments | 55 railroads | 165 amendments | 20 minutes | 55
—Copy of operating rules/timetables, etc. by Class III | 5 new railroads | 5 submissions | 55 minutes | 5
—Amendments by Class III Railroads | 687 railroads | 2,061 amendments | 15 minutes | 515
217.9—RR and RR Testing Officer Qualification | 720 railroads | 4,732 field trained officers/training sessions | 8 hours | 37,856
—Records of Qualification | 720 railroads | 4,732 records | 2 minutes |
—Written Prog. of Operational Tests | 5 new railroads | 5 programs | 9.92 hours | 158
—Records of Operational Tests/Inspections | 720 railroads | 9,188,700 records | 5 minutes | 50
—Amendments | 55 railroads | 165 amendments | 1.92 hours | 765,725
—Quarterly Review of Accident/Incident Data/Prior Op. Tests/Insp. | 720 railroads | 196 reviews | 1 hour | 317 196
—Designated Officers & Conduct of 6 Mo. Rev. | 720 railroads | 61 designations + 132 reviews | 5 seconds + 1 hour |
—Designated Officers & Conduct of Six Month Review by Passenger/Commuter Railroads | Amtrak + 23 railroads | 24 designations + 48 reviews | 5 seconds + 1 hour | 132 48
—Records of Periodic Reviews | 720 railroads | 752 review records | 1 minute |
—Annual Summary on Operational Tests/Insp. | 61 railroads | 61 summary records | 61 minutes | 13
—FRA Disapproval of RR Program of Operational Tests/Insp. & Response by RR | 720 railroads | 10 supporting documents | 1 hour | 62 10
—Amended Prog. Docs. | 720 railroads | 10 amended documents | 30 minutes |
271.11—Instruction of Program Employees | 720 railroads | 130,000 instr. employees | 8 hours | 1,040,000
—New RR & Copy of Program of Op. Tests | 5 new railroads | 5 Programs | 8 hours | 40
—Amendments to Op. Rules Instr. Program | 720 railroads | 220 amendments | 55 minutes | 202
218.95—Instruction, Training, Examination—Records | 720 railroads | 98,000 records | 5 minutes | 8,167
—Response to FRA Disapproval of Program | 720 railroads | 25 written/oral submissions | 1 hour | 25
—Programs Needing Amendment | 720 railroads | 10 amended programs | 30 minutes | 5
218.97—Written Procedures on Good Faith Challenges by Employees Re: Actions | 720 railroads | 41 written procedures | 2 hours | 82
—Employee Copy of Written Procedures | 720 railroads | 4,000 copies | 6 minutes | 400
—Employee Copy of Amended Procedures | 720 railroads | 125,000 copies | 3 minutes | 6,250
—Good Faith Challenges by RR Employees | 98,000 RR Employees | 15 challenges | 10 minutes | 3
—RR Responses to Empl. Challenge | 720 railroads | 5 immediate reviews | 15 minutes | 1
—Immediate Review of Employee Challenge | 720 railroads | 5 immediate reviews | 15 minutes | 1
—RR Officer Explanation of Federal Law Protection Against Retaliation | 720 railroads | 5 explanations | 1 minutes | .08
—Documented Protest by RR Employee | 720 railroads | 10 written protests | 15 minutes | 3
—Copies of Protests | 720 railroads | 10 protest copies | 1 minute |
—Further Reviews | 720 railroads | 3 further reviews | 15 minutes | 17
—Written Verification—Decision to Employee | 720 railroads | 10 verification decisions | 10 minutes | 1 2
—Copy of Written Procedures at RR Hdtrs. | 720 railroads | 773 copies of procedures | 5 minutes | 64
—Copy of Verification Decision at RR Headquarters & Division Headquarters | 720 railroads | 20 verification decision | 5 minutes | 2
218.99—Shoving or Pushing Movements |  |  |  |
—Operating Rule Modifications | 720 railroads | 41 rule modifications | 1 hour | 41
—Locomotive Engineer Job Briefing Before Movement | 100,000 RR Employees | 60,000 job briefings | 1 minute | 1,000
—Point Protection Determinations & Signals/Instructions to Control Movements | 100,000 RR Employees | 87,600,000 determinations + 87,600,000 signals/instructions | 1 minute + 1 minute | 2,920,000
—Remote Control Movements—Verbal Confirmation | 100,000 RR Employees | 876,000 confirmations | 1 minute | 14,600
—Remote Control Determinations That Zone Is Not Jointly Occupied/Track Clear | 100,000 RR Employees | 876,000 determinations | 1 minute | 14,600
—Dispatcher Authorized Train Movements | 6,000 RR Dispatchers | 30,000 movements | 1 minute | 500
218.101—Operating Rule Re: Leaving Rolling & On-Track MOW Equipment in the Clear | 720 railroads | 41 amended op. rules | 30 minutes | 21 hours
218.103—Hand-Operated Switches—RR Operating Rule That Complies w/§ 218.103 | 720 railroads | 41 modified operating rules | 1 hour | 41
—Specification of Minimum Job Briefing Requirements | 720 railroads | 55 modified op. rules | 30 minutes | 28
—Employee Operating or Verifying Position of Hand-operated Switches: Job Briefings | 720 railroads | 1,125,000 job briefings | 1 minute | 18,750
218.105—Additional Requirements for Hand Operated Main Track Switches—Job Briefing | 720 railroads | 60,000 job briefings | 1 minute | 1,000
—Roadway Worker Report on Position of Switches to Roadway Worker in Charge (RWIC) or Designated Employee Conveying Information to RWIC | 720 railroads | 100,000 empl. reports + 100,000 conveyances | 1 minute + 1 minute | 3,334
—Dispatcher Acknowledgment of Switch Position and Employee Confirmation to Train Dispatcher | 720 railroads | 60,000 acknowledgment + 60,000 confirmations | 30 seconds + 5 seconds | 583
218.109—Hand Operated Fixed Derails: Job Briefings | 720 railroads | 562,500 hours | 30 seconds | 4,688

Total Estimated Responses: 188,669,706.

Total Estimated Annual Burden: 4,839,583 hours.

Status: Extension of a Currently Approved Collection.

Title: Reflectorization of Freight Rolling Stock.

OMB Control Number: 2130-0566.

Abstract: The Federal Railroad Administration (FRA) issued this regulation to mandate the reflectorization of freight rolling stock (freight cars and locomotives) to enhance the visibility of trains in order to reduce the number and severity of accidents at highway-rail grade crossings in which train visibility acted as a contributing factor. The information collected is used by FRA to ensure that railroads/car owners follow the schedule established by the regulation for placing retro-reflective material on the sides of freight rolling stock (freight cars and locomotives) in order to improve the visibility of trains. The information is also used by FRA to confirm that railroads/car owners meet the prescribed standards for the application, inspection, and maintenance of the required retro-reflective material.

Form Number(s): FRA F 6180.113.

Affected Public: Businesses.

Respondent Universe: 685 railroads and 4 Locomotive Manufacturers.

Frequency of Submission: On occasion.

Reporting Burden:

CFR section | Respondent universe | Total annual responses | Average time per response | Total annual burden hours
224.7—Waivers | 753 Railroads/Car Owners | 15 petitions | 1 hour | 15
224.15—Special Approval Procedures—Petitions | 3 Manufacturers | 12 petitions | 40 hours | 480
—Public Comment on Petitions | 3 Manufacturers/Railroads | 3 comment | 1 hour | 3
224.107—Implementation Schedule: Freight Cars | 753 Railroads/Car Owners | 200 reports/forms | 15 minutes | 50
—Existing Freight Cars with Retroreflective Sheeting | 753 Railroads/Car Owners | 200 reports/forms | 20 hours | 4,000
—Updated Reflectorization Implementation Plans: Failure Rpt. | 753 Railroads/Car Owners | 5 failure reports | 2 hours | 10
II. Existing Cars w/Retroreflective Sheeting | 753 Railroads/Car Owners | 172 reports/forms | 20 hours | 3,440
(b Existing Locomotives without Retroreflective sheeting | 753 Railroads/Car Owners | 35 reports/forms | 15 minutes | 9
—Updated Reflectorization Compliance Reports | 753 Railroads/Car Owners | 35 reports/forms | 3 hours | 105
—Failure reports after initial 24 mo. | 753 Railroads/Car Owners | 1 failure report | 2 hours | 2
II. Existing Locomotives with Retroreflective Sheeting— Reports of Compliance | 753 Railroads/Car Owners | 150 reports/forms | 4 hours | 600
224.109—Inspection, Repair, Replacement—Freight Cars | AAR + 300 Car Shops | 272,600 Notices | 2 minutes | 9,090
—Locomotives: Records of Restrictions | 22,045 Locomotives | 4,809 records | 3 minutes | 240

Total Responses: 278,237.

Total Estimated Total Annual Burden: 18,044 hours.

Status: Extension of a Currently Approved Collection.

Title: Track Safety Standards: Concrete Crossties.

OMB Control Number: 2130-0592.

Abstract: On April 1, 2011, FRA amended the Federal Track Safety Standards to promote the safety of railroad operations over track constructed with concrete crossties. In particular, FRA mandated specific requirements for effective concrete crossties, for rail fastening systems connected to concrete crossties, and for automated inspections of track constructed with concrete crossties. The information collected under § 213.234 is used by FRA to ensure that automated track inspections of track constructed with concrete crossties are carried out as specified in this section to supplement visual inspections by Class I and Class II railroads, intercity passenger railroads, and commuter railroads or small government jurisdictions that serve populations greater than 50,000.

Form Number(s): N/A.

Affected Public: Businesses.

Respondent Universe: 18 railroads.

Frequency of Submission: On occasion.

Reporting Burden:

CFR section | Respondent universe | Total annual responses | Average time per response | Total annual burden hours
213.234—Automated Inspection of Track Constructed with Concrete Crossties: Exception Reports Listing All Exception to § 213.109(d)(4) | 18 Railroads | 150 reports | 8 hours | 1,200
— Copies of Exception Report Provided to Designated Person under § 213.234(e)(1) | 18 Railroads | 150 report copies | 12 minutes | 30
—Field Verification of Exception Reports | 18 Railroads | 150 verification | 2 hours | 300
—Records of Inspection Data | 18 Railroads | 150 records | 30 minutes | 75
—Institution of Procedures by Track Owner to Maintain Integrity of Track Data Collected by the Measurement System | 18 Railroads | 18 procedures | 4 hours | 72
—Training by Track Owner: Annual Training in Handing Rail Seat Deterioration Exceptions to All Persons Designated Fully Qualified under § 213.7 | 18 Railroads | 2,000 trained employees | 8 hours | 16,000

Total Responses: 2,618.

Total Estimated Total Annual Burden: 17,677 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on 15 April 2014.
Rebecca Pennington,
Chief Financial Officer.

[FR Doc. 2014-08949 Filed 4-18-14; 8:45 am]

BILLING CODE 4910-06-P